DEPARTMENT OF JUSTICE

Antitrust Division

Notice Pursuant to the National Cooperative Research and Production Act of 1993—Telemanagement Forum

Notice is hereby given that, on October 13, 2023, pursuant to section 6(a) of the National Cooperative Research and Production Act of 1993, 15 U.S.C. 4301 et seq. (“the Act”), TM Forum, A New Jersey Non-Profit Corporation (“The Forum”) filed written notifications simultaneously with the Attorney General and the Federal Trade Commission disclosing changes in its membership. The notifications were filed for the purpose of extending the Act's provisions limiting the recovery of antitrust plaintiffs to actual damages under specified circumstances. Specifically, the following entities have become members of the Forum: Qarbon Technologies PTE LTD, Singapore, SINGAPORE; vitroconnect GmbH, Gütersloh, GERMANY; NTT QONOQ, INC., Tokyo, JAPAN; Stechs, Miami, FL; Quantexa, London, UNITED KINGDOM; Broadleaf Commerce, Plano, TX; BAINZ Consulting Limited, Wellington, NEW ZEALAND; Idea Helix Inc., Fremont, CA; XACRIA s.r.l, Catania, ITALY; Vanrise Solutions, Beirut, LEBANON; The Value Engineers, Soest, NETHERLANDS; Alliance Best Practice Ltd, Warwick, UNITED KINGDOM; Crown Castle, Houston, TX; Digitata Networks, Irving, TX; Ooredoo Kuwait, Mirqab Kuwait City, KUWAIT; Yemen Mobile, Sana'a, REPUBLIC OF YEMEN; MTN Nigeria, Lagos, NIGERIA; Summit Tech, Montreal, CANADA.

Also, the following members have changed their names: T-Mobile Netherlands BV to Odido Netherlands B.V., Den Haag, NETHERLANDS; Telekom Malaysia Berhad (TM) to TM Technology Services Sdn Bhd, Kuala Lumpur, MALAYSIA; StarHub to StarHub Ltd, Singapore, SINGAPORE; Epam Systems, Inc. to Epam Systems Ltd, Newtown, PA; Claro El Salvador to Claro El Salvador (CTE Telecom Personal, SA de CV), San Salvador, EL SALVADOR; Indra Brasil to Minsait Brasil LTDA, São Paulo, BRAZIL; Kratos RT Logic, Inc. to Kratos, Colorado Springs, CO; ITgma DOO Skopje to ITgma, Skopje, MACEDONIA.

In addition, the following parties have withdrawn as parties to this venture: Alepo Technologies Inc, Austin, TX; Celcom Axiata Berhad, Kuala Lumpur, MALAYSIA; Circles Life Asia Technology Pte. Ltd., Singapore, SINGAPORE; Civity, Zeist, THE NETHERLANDS; Dotlines Pte Ltd., Singapore, SINGAPORE; Fibrasil infraestrutura e fibra otica S.A., São Paulo, BRAZIL; KCOM Group Limited, Hull, UK; Nae Costa Rica Business and Services S.R.L, San Jose, COSTA RICA; Nexign, St.Petersburg, RUSSIA; Shaanxi Fast Gear Co., LTD, Xi'an, CHINA; Soaint Peru SAC, Lima, PERU; TIBCO Software Inc., Palo Alto, CA; Universidad Argentina de la Empresa, Ciudad Autonoma de Buenos Aires, ARGENTINA; Universitat der Bundeswehr, Neubiberg, GERMANY; University of Bonn, Bonn, GERMANY; VETRO FiberMap, Portland, ME; VMware, Inc., Palo Alto, CA.

No other changes have been made to either the membership or planned activity of the group research project. Membership in this group research project remains open, and The Forum intends to file additional written notifications disclosing all changes in membership.

On October 21, 1988, The Forum filed its original notification pursuant to section 6(a) of the Act. The Department of Justice published a notice in the Federal Register pursuant to section 6(b) of the Act on December 8, 1988 (53 FR 49615).

The last notification was filed with the Department on July 13, 2023. A notice was published in the Federal Register pursuant to section 6(b) of the Act on September 26, 2023 (88 FR 66059).

Suzanne Morris,
Deputy Director Civil Enforcement Operations, Antitrust Division.

[FR Doc. 2023-27584 Filed 12-14-23; 8:45 am]

BILLING CODE P